DEPARTMENT OF HOUSING AND URBAN DEVELOPMENT

[Docket No. FR-4529-N-06]

Notice of Proposed Information Collection: Comment Request; Guide for Opinion of Counsel to the Mortgagor and HUD Guide for Counsel to Owner

AGENCY: Office of the General Counsel, HUD.

ACTION: Notice.

SUMMARY: The proposed information collection requirement described below will be submitted to the Office of Management and Budget (OMB) for review, as required by the Paperwork Reduction Act. The Department is soliciting public comments on the subject proposal.

DATES: Comments Due Date: June 2, 2003.

ADDRESSES: Interested persons are invited to submit comments regarding this proposal. Comments should refer to the proposal by name and/or OMB Control Number and should be sent to: Patricia A. Wash, Reports Liaison Officer, Department of Housing and Urban Development, 451 7th Street, SW., Room 10245, Washington, DC 20410.

FOR FURTHER INFORMATION CONTACT: Millicent Potts, Assistant General Counsel for Multifamily Mortgage Division, Office of General Counsel, Department of Housing and Urban Development, 451 7th Street, SW, Room 9230, Washington, DC 20410, telephone (202) 708-4090 (this is not a toll-free number) for copies of the proposed guide.

SUPPLEMENTARY INFORMATION: The Department is submitting the proposed information collection to OMB for review, as required by the Paperwork Reduction Act of 1995 (44 U.S.C. chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: HUD Guide for Counsel to the Mortgagor and HUD Guide to Counsel to Owner.

OMB Control Number, if applicable: 2510-0010

Description of the need for the information and proposed use:

The opinion is required to provide comfort to HUD and the mortgagee in multifamily rental and health care facility mortgage insurance transactions and similarly to HUD and owners in the capital advance transactions.

Agency form numbers, if applicable: Guide.

Members of affected public: Counsel to mortgagors of multifamily rental projects and health care facilities upon which the mortgage loans are insured by HUD and counsel to owners of section 202 or section 811 projects which receive capital advances from HUD.

Estimation of the total numbers of hours needed to prepare the information collection including number of respondents, frequency of response, and hours of response: As closings occur in connection with the aforementioned projects.

Number of respondents | Burden hours | Frequency of response | Total burden hours
700 | 1.0 | 1 | 700

Status of the proposed information collection: Expired.

Authority: The Paperwork Reduction Act of 1995, 44 U.S.C. chapter 35, as amended.

Dated: March 26, 2003.
Camille Acevedo,
Associate General Counsel.

[FR Doc. 03-7708 Filed 3-31-03; 8:45 am]

BILLING CODE 4210-67-P